DEPARTMENT OF ENERGY

Federal Energy Regulatory Commission

Notice of Intent To File for New License

September 5, 2002.

a. Type of Filing: Notice of Intent to File an Application for New License.

b. Project No.: 516-000.

c. Date Filed: August 30, 2002.

d. Submitted By: South Carolina Electric and Gas Company—current licensee.

e. Name of Project: Saluda Hydroelectric Project.

f. Location: On the Saluda River in Lexington, Newberry, Richland, and Saluda Counties, near the City of Columbia, South Carolina. The project does not occupy federal lands.

g. Filed Pursuant to: Section 15 of the Federal Power Act.

h. Licensee Contact: James M. Landreth, Vice President, Fossil & Hydro Operations, South Carolina Electric & Gas Co., 111 Research Drive, Columbia, SC 29203, jlandreth@scana.com, (803) 217-7224.

i. FERC Contact: John Hannula, john.hannula@ferc.gov, (202) 502-8917.

j. Effective date of current license: June 1, 1984.

k. Expiration date of current license: August 31, 2007.

l. Description of the Project: The project consists of the following existing facilities: (1) A 211-foot-high, 7,800-foot-long earth-filled dam with a concrete spillway equipped with four 37.5-foot-long by 25-foot-high Taintor gates, and two 44-foot-long by 32-foot-high Taintor gates; (2) the 41-mile-long, 48,800-acre Lake Murray with a full pool elevation of 360 feet msl; (3) four 223-foot-high, 30-foot-diameter intake towers, and one 223-foot-high, 60-foot-diameter intake tower; (4) four 986-foot-long, 16-inch-diameter penstocks; (5) a 718-foot-long arch shaped conduit containing two 14-foot-diameter penstocks through a 42-foot-long bifurcation, to a 365-foot-long, 20-foot-diameter penstock; (6) a powerhouse containing five generating units with a total installed capacity of 207.3 MW; and (7) appurtenant facilities.

m. Each application for a license and any competing license applications must be filed with the Commission at least 24 months prior to the expiration of the existing license. All applications for license for this project must be filed by August 31, 2005.

n. A copy of this filing is available for review at the Commission in the Public Reference Room or may be viewed on the Commission's Web site at http://www.ferc.gov using the “FERRIS” link. Enter the docket number excluding the last three digits in the docket number field to access the document. For assistance, call (202) 502-8222 or for TTY, (202) 208-1659. A copy is also available for inspection and reproduction at the address in item h above.

Linwood A. Watson, Jr.,
Deputy Secretary.

[FR Doc. 02-23185 Filed 9-17-02; 8:45 am]

BILLING CODE 6717-01-P